DEPARTMENT OF COMMERCE

International Trade Administration

[A-570-501]

Natural Bristle Paintbrushes and Brush Heads from the People's Republic of China: Rescission of Antidumping Duty New Shipper Review of Changshan Import/Export Co., Ltd.

AGENCY: Import Administration, International Trade Administration, Department of Commerce

SUMMARY: On September 30, 2003, the Department initiated new shipper reviews of the antidumping duty order on natural bristle paintbrushes and brush heads from the People's Republic of China covering the period February 1, 2003, through July 31, 2003. See Natural Bristle Paintbrushes and Brush Heads from the People's Republic of China: Initiation of Antidumping Duty New Shipper Reviews, 68 FR 57876 (October 7, 2003 ) (Initiation Notice). These new shipper reviews covered two exporters: Shanghai R&R Imp./Exp. Co., Ltd. (Shanghai R&R) and Changshan Import/Export Co., Ltd. (Changshan Ltd.). For the reasons discussed below, we are rescinding the review of Changshan Ltd.

EFFECTIVE DATE: July 30, 2004.

FOR FURTHER INFORMATION CONTACT: Dara Iserson or Thomas Gilgunn at (202) 482-4052 and (202) 482-4236, respectively; Office of AD/CVD Enforcement 7, Import Administration, International Trade Administration, U.S. Department of Commerce, 14th Street and Constitution Avenue, NW, Washington, DC 20230.

SUPPLEMENTARY INFORMATION:

Background

On August 14, 2003, the Department received a timely request for a new shipper review of the antidumping duty order on natural bristle paintbrushes and brush heads from the People's Republic of China (PRC) from Changshan Ltd., an exporter of subject merchandise to the United States. On September 30, 2003, the Department initiated this new shipper review covering the period February 1, 2003, through July 31, 2003. See Initiation Notice. On June 15, 2004, Changshan Ltd. withdrew its request for review. Furthermore, on June 16, 2004, counsel notified the verification team that Changshan Ltd. would not participate in verification for its responses. (See Memorandum to File entitled “Refusal of Verification by Changshan Ltd.” dated July 16, 2004, which is on file in the Central Records Unit, Room B-099, Department of Commerce.)

Scope of the Antidumping Duty Order:

The products covered by the order are natural paintbrushes from the PRC. Excluded from the order are paintbrushes and brush heads with a blend of 40 percent natural bristles and 60 percent synthetic filaments. The merchandise under review is currently classifiable under item 9603.40.40.40 of the Harmonized Tariff Schedule of the United States (HTSUS). Although the HTSUS subheading is provided for convenience and customs purposes, the Department's written description of the merchandise is dispositive.

Rescission of New Shipper Review

Pursuant to section 351.214(f)(1) of the Department's regulations, the Department may rescind a new shipper review if a party that requested a review withdraws its request not later than 60 days after the date of publication notice of initiation of the requested review. As noted, Changshang Ltd. withdrew its request for a new shipper review on June 15, 2004, after the 60-day time limit. Although Changshan Ltd. withdrew its request after the 60-day deadline, we find no compelling reason not to permit withdrawal of the request for this new shipper review. Specifically, we had not started calculating a margin for Changshan Ltd. nor we had not yet started to verify Changshan Ltd.'s data. Furthermore, we did not receive any submissions opposing Changshan Ltd.'s withdrawal of its request for review. For these reasons, we have accepted Changshan Ltd.'s withdrawal and are rescinding the new shipper review of the antidumping duty order on natural bristle paintbrushes and brush heads from the People's Republic of China (PRC) with respect to Changshan Ltd. in accordance with section 351.214(f)(1) of the Department's regulations.

Cash Deposits

The Department will notify U.S. Customs and Border Protection (CBP) that bonding is no longer permitted to fulfill security requirements for shipments from Changshan Ltd. of natural bristle paintbrushes and brush heads from the PRC entered, or withdrawn from warehouse, for consumption in the United States on or after the publication of this notice of rescission of antidumping duty new shipper review in the Federal Register. Further, effective upon publication of this notice for all shipments of the subject merchandise exported by Changshan Ltd. and entered, or withdrawn from warehouse, for consumption, the cash deposit rate will be the PRC-wide rate, which is 351.92 percent.

Assessment of Antidumping Duties

The Department shall instruct CBP to assess antidumping duties on all appropriate entries. Since we are rescinding this antidumping duty new shipper review with respect to Changshan Ltd., the PRC-wide rate of 351.92 percent in effect at the time of entry applies to all exports of natural bristle paintbrushes and brush heads from the PRC by Changshan Ltd. entered, or withdrawn, from warehouse for consumption during the period of review (February 1, 2003, through July 31, 2003). The Department will issue appropriate assessment instructions directly to CBP within 15 days of publication of this notice of rescission of antidumping duty new shipper review.

Notification to Importers

This notice also serves as a reminder to importers of their responsibility under section 351.402(f) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APO) of their responsibility concerning the disposition of proprietary information disclosed under APO in accordance with section 351.305(a)(3) of the Department's regulations. Timely written notification of the return/destruction of APO material or conversion to judicial protective order is hereby requested. Failure to comply with the regulations and terms of an APO is a violation which is subject to sanctions.

We are issuing and publishing this determination and notice in accordance with sections 751(a)(2)(B) and 777(i)(1) of the Tariff Act of 1930, as amended.

Dated: July 22, 2004.
Holly A. Kuga,
Acting Assistant Secretary for Import Administration.

[FR Doc. 04-17422 Filed 7-29-04; 8:45 am]

BILLING CODE 3510-DS-S